Title 3—

The President

Proclamation 9163 of September 5, 2014

National Grandparents Day, 2014

By the President of the United States of America

A Proclamation

Each year, we pause to salute the grandmothers and grandfathers who strengthen our families and shape our Nation. Through decades of hard work, they have broken down barriers and blazed pathways for the generations that followed, and they continue to provide inspiration and support to their children and grandchildren. On National Grandparents Day, we honor the anchors of our families and recognize the immeasurable ways they enrich our lives.

With grit and determination, our grandparents have built better lives for their loved ones and a better future for our country. From battlefields to factory floors, their relentless pursuit of progress has created new opportunities and made America more equal and more just. They have ushered in revolutionary advances in science and technology, putting us at the forefront of innovation. And they have shared in some of life's most cherished memories—from small moments to personal milestones—and been a source of comfort in difficult times.

Across our country, grandparents continue to contribute to their families and communities in countless ways. They volunteer in their neighborhoods, and for more than 5 million grandchildren, they serve as the head of household, providing unconditional love and support. Their tenacious spirit, commitment to family, and sense of service remind us that after a lifetime of hard work, they deserve to retire with security and dignity.

Today, we pay tribute to our grandparents and all the older Americans who have reached across generations and played an important role in our lives. With profound gratitude, we celebrate all they have accomplished and given to our Nation.

NOW, THEREFORE, I, BARACK OBAMA, President of the United States of America, by virtue of the authority vested in me by the Constitution and the laws of the United States, do hereby proclaim September 7, 2014, as National Grandparents Day. I call upon all Americans to take the time to honor their own grandparents and those in their community.

IN WITNESS WHEREOF, I have hereunto set my hand this fifth day of September, in the year of our Lord two thousand fourteen, and of the Independence of the United States of America the two hundred and thirty-ninth.

[FR Doc. 2014-21755

Filed 9-9-14; 11:15 am]

Billing code 3295-F4